DEPARTMENT OF HOUSING AND URBAN DEVELOPMENT

[Docket No. FR-5872-N-01]

Notice of Extension of Time for Completion of Manufacturer Notification and Correction Plan

AGENCY: Office of the Assistant Secretary for Housing—Federal Housing Commissioner, Department of Housing and Urban Development (HUD).

ACTION: Notice of extension of time.

SUMMARY: This notice advises the public that HUD received a request from Cavco Industries (Cavco) for an extension of time to fully implement its plan to notify purchasers and correct certain manufactured homes built and sold by Cavco that were installed with Kidde combined smoke and carbon monoxide alarms imported by Walter Kidde Portable Equipment Inc., that were subsequently recalled by the Consumer Product Safety Commission. After reviewing Cavco's request, HUD determined that Cavco has shown good cause and granted its request for an extension. The requested extension is granted until August 24, 2015.

FOR FURTHER INFORMATION CONTACT: Pamela Beck Danner, Administrator and Designated Federal Official (DFO), Office of Manufactured Housing Programs, Office of Housing Department of Housing and Urban Development, 451 Seventh Street SW., Room 9166, Washington, DC 20410, telephone 202-708-6423 (this is not a toll-free number). Persons who have difficulty hearing or speaking may access this number via TTY by calling the toll-free Federal Relay Service at 800-877-8339.

DATES: Effective Date: April 24, 2015.

SUPPLEMENTARY INFORMATION: The National Manufactured Housing Construction and Safety Standards Act of 1974 (42 U.S.C. 5401-5426) (the Act) authorizes HUD to establish the Federal Manufactured Home Construction and Safety Standards (Construction and Safety Standards), codified in 24 CFR part 3280. Section 615 of the Act (42 U.S.C. 5414) requires that manufacturers of manufactured homes notify purchasers if the manufacturer determines, in good faith, that a defect exists or is likely to exist in more than one home manufactured by the manufacturer and the defect relates to the Construction and Safety Standards or constitutes an imminent safety hazard to the purchaser of the manufactured home. The notification shall also inform purchasers whether the defect is one that the manufacturer will have corrected at no cost or is one that must be corrected at the expense of the purchaser/owner. The manufacturer is responsible to notify purchasers of the defect within a reasonable time after discovering the defect.

HUD's procedural and enforcement provisions at 24 CFR part 3282, subpart I (Subpart I) implement these notification and correction requirements. If a manufacturer determines that it is responsible for providing notification under 3282.405 and correction under 3282.406, the manufacturer must prepare a plan for notifying purchasers of the homes containing the defect pursuant to 3282.408 and 3282.409. Notification of purchasers must be accomplished by certified mail or other more expeditious means that provides a receipt. Notification must be provided to each retailer or distributor to whom any manufactured home in the class of homes containing the defect was delivered, to the first purchaser of each manufactured home in the class of manufactured homes containing the defect, and to other persons who are a registered owners of a manufactured home in the class of homes containing the defect. The manufacturer must complete the implementation of the plan for notification and correction on or before the deadline approved by the State Administrative Agency or HUD. Under 3282.410(c), the manufacturer may request an extension of the deadline if it shows good cause for the extension and the Secretary of HUD decides that the extension is justified and not contrary to the public interest. If the request for extension is approved, 3282.410(c) requires that HUD publish notice of the extension in the Federal Register.

On November 14, 2014, Cavco ¹ notified HUD that it received information that a defective product was systematically installed into homes during the manufacturing process. Specifically, the homes were installed with certain Kidde combined smoke and carbon monoxide alarms which were subsequently voluntarily recalled by Kidde in conjunction with the Consumer Product Safety Commission. To view the recall notice, please visit http://www.cpsc.gov/en/Recalls/2014/Kidde-Recalls-Smoke-and-Combination-SmokeCO-Alarms/. On December 16, 2014, Cavco submitted a revised plan of notification and correction. Pursuant to its notification and correction plan, Cavco has attempted to notify all affected homeowners by certified mail and telephone and send free-of-charge replacement Kidde combined smoke and carbon monoxide alarms to affected homeowners or install such replacement when requested by the homeowner. HUD approved the Cavco plan of notification and correction on December 29, 2014.

¹ Information about Cavco Industries can be found at http://www.cavco.com.

Since receipts for all certified letters were not returned and in some cases a valid phone number was not available, Cavco, by letter dated April 24, 2015, requested an extension of 120 days to complete the notification and correction process. This notice advises that HUD finds that Cavco has shown good cause and that the extension is justified and not contrary to the public interest and, on April 24, 2015, granted the requested extension until August 24, 2015, to permit Cavco to continue its good faith efforts to contact the affected homeowners who did not receive a certified letter, and to replace Kidde combined smoke and carbon monoxide alarms at no cost to affected homeowners.

Dated: May 12, 2015.
Pamela Beck Danner,
Administrator, Office of Manufactured Housing Programs.

[FR Doc. 2015-11805 Filed 5-14-15; 8:45 am]

BILLING CODE 4210-67-P